ENVIRONMENTAL PROTECTION AGENCY

[EPA-HQ-OA-2010-0757; FRL-11806-01-OMS]

Agency Information Collection Activities; Submission to the Office of Management and Budget for Review and Approval; Comment Request; Confidential Financial Disclosure Form for Special Government Employees at the US Environmental Protection Agency (Renewal)

AGENCY: Environmental Protection Agency (EPA).

ACTION: Notice.

SUMMARY: The Environmental Protection Agency (EPA) has submitted an information collection request (ICR), Confidential Financial Disclosure Form for Special Government Employees at the EPA (EPA ICR Number 2260.08, OMB Control Number 2090-0029) to the Office of Management and Budget (OMB) for review and approval in accordance with the Paperwork Reduction Act. This is a proposed extension of the ICR, which is currently approved through June 30, 2024. Public comments were previously requested via the Federal Register on September 1, 2023 during a 60-day comment period. This notice allows for an additional 30 days for public comments.

DATES: Comments may be submitted on or before April 5, 2024.

ADDRESSES: Submit your comments, referencing Docket ID Number EPA-HQ-OA-2010-0757, to EPA online using www.regulations.gov (our preferred method), by email to Docket_OMS@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Gina Moore, Office of Inclusive Excellence, Federal Advisory Committee Management and Oversight Division, Mail Code 1601M, Environmental Protection Agency, 1200 Pennsylvania Avenue NW, Washington, DC 20460; telephone number: 202-566-0462, moore.gina@epa.gov.

SUPPLEMENTARY INFORMATION: This is a proposed extension of the ICR, which is currently approved through June 30, 2024. An agency may not conduct or sponsor and a person is not required to respond to a collection of information unless it displays a currently valid OMB control number.

Public comments were previously requested via the Federal Register on September 1, 2023 during a 60-day comment period (87 FR 18967). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The purpose of this information collection request is to assist the EPA in selecting federal advisory committee members who will be appointed as Special Government Employees (SGEs), mostly to the EPA's scientific and technical committees. To select SGE members as efficiently and cost effectively as possible, the Agency needs to evaluate potential conflicts of interest before a candidate is hired as an SGE and appointed as a member to a committee.

Agency officials developed the “Confidential Financial Disclosure Form for Special Government Employees at the U.S. Environmental Protection Agency,” also referred to as Form 3110-48, for greater inclusion of information to discover any potential conflicts of interest as recommended by the Government Accountability Office.

Form numbers: EPA Form 3110-48.

Respondents/affected entities: Candidates for membership as SGEs on EPA federal advisory committees. SGEs are required to file a confidential financial disclosure report (Form 3110-48) when first appointed to serve on EPA federal advisory committees, and then annually thereafter. Committee members may also be required to update the confidential form before each meeting while they serve as SGEs.

Respondent's obligation to respond: Required to serve as an SGE on an EPA federal advisory committee (5 CFR 2634.903).

Estimated number of respondents: 325 (total).

Frequency of response: When first appointed to serve on an EPA advisory committee and annually thereafter. Committee members may also be required to update the confidential form before each meeting while they serve as SGEs.

Total estimated burden: 325 hours per year (1 hour per respondent). Burden is defined at 5 CFR 1320.03(b).

Total estimated cost: $88,400 (per year), includes $0 annualized capital or operation & maintenance costs.

Changes in the estimates: There is no change in the total estimated respondent burden compared with the ICR currently approved by OMB.

Courtney Kerwin,
Director, Information Engagement Division.

[FR Doc. 2024-04776 Filed 3-5-24; 8:45 am]

BILLING CODE 6560-50-P